DEPARTMENT OF ENERGY

Federal Energy Regulatory Commission

18 CFR Part 284

[Docket No. RM96-1-015]

Standards For Business Practices Of Interstate Natural Gas Pipelines

June 30, 2000.

AGENCY: Federal Energy Regulatory Commission.

ACTION: Notice of proposed rulemaking.

SUMMARY: The Federal Energy Regulatory Commission is proposing to amend § 284.12 of its regulations governing standards for conducting business practices and electronic communication with interstate natural gas pipelines. The Commission is proposing to incorporate by reference the most recent version of the standards, Version 1.4, promulgated August 31, 1999 and November 15, 1999 by the Gas Industry Standards Board (GISB). The Commission also is proposing to adopt a regulation requiring pipelines to permit shippers to designate and rank the contracts under which gas will flow on a pipeline's system so that shippers have the flexibility to choose the transportation contract which is the most economical and efficacious to move their gas supplies. Version 1.4 of the GISB standards can be obtained from GISB at 1100 Louisiana, Suite 4925, Houston, TX 77002, 713-356-0060, http://www.gisb.org.

DATES: Comments are due August 7, 2000.

ADDRESSES: Federal Energy Regulatory Commission, 888 First Street, N.E., Washington DC, 20426.

FOR FURTHER INFORMATION CONTACT:

Michael Goldenberg, Office of the General Counsel, Federal Energy Regulatory Commission, 888 First Street, NE, Washington, DC 20426, (202) 208-2294

Marvin Rosenberg, Office of Markets, Tariffs, and Rates, Federal Energy Regulatory Commission, 888 First Street, N.E., Washington, DC 20426, (202) 208-1283

Kay Morice, Office of Markets, Tariffs, and Rates, Federal Energy Regulatory Commission, 888 First Street, N.E., Washington, DC 20426, (202) 208-0507

SUPPLEMENTARY INFORMATION:

United States of America

Federal Energy Regulatory Commission

Standards For Business Practices of Interstate Natural Gas Pipelines.

[Docket No. RM96-1-015]

Notice of Proposed Rulemaking

June 30, 2000.

The Federal Energy Regulatory Commission (Commission) is proposing to amend § 284.12 of its regulations governing standards for conducting business practices and electronic communications with interstate natural gas pipelines. The Commission is proposing to incorporate by reference the most recent version of the consensus industry standards promulgated by the Gas Industry Standards Board (GISB), Version 1.4. The Commission also is proposing to require pipelines to permit shippers to designate and rank the contracts under which gas will flow on a pipeline's system so that shippers have the flexibility to choose the transportation contract which is the most economical and efficacious to move their gas supplies.

I. Background

In Order Nos. 587, 587-B, 587-C, 587-G, 587-H, 587-I, and 587-K the Commission adopted regulations to standardize the business practices and communication methodologies of interstate pipelines in order to create a more integrated and efficient pipeline grid. ¹ In those orders, the Commission incorporated by reference consensus standards developed by GISB, a private, consensus standards developer composed of members from all segments of the natural gas industry.

¹ Standards For Business Practices Of Interstate Natural Gas Pipelines, Order No. 587, 61 FR 39053 (Jul. 26, 1996), III FERC Stats. & Regs. Regulations Preambles ¶ 31,038 (Jul. 17, 1996), Order No. 587-B, 62 FR 5521 (Feb. 6, 1997), III FERC Stats. & Regs. Regulations Preambles ¶ 31,046 (Jan. 30, 1997), Order No. 587-C, 62 FR 10684 (Mar. 10, 1997), III FERC Stats. & Regs. Regulations Preambles ¶ 31,050 (Mar. 4, 1997), Order No. 587-G, 63 FR 20072 (Apr. 23, 1998), III FERC Stats. & Regs. Regulations Preambles ¶ 31,062 (Apr. 16, 1998), Order No. 587-H, 63 FR 39509 (July 23, 1998), III FERC Stats. & Regs. Regulations Preambles ¶ 31,063 (July 15, 1998); Order No. 587-I, 63 FR 53565 (Oct. 6, 1998), III FERC Stats. & Regs. Regulations Preambles ¶ 31,067 (Sept. 29, 1998), Order No. 587-K, 64 FR 17276 (Apr. 9, 1999), III FERC Stats. & Regs. Regulations Preambles ¶ 31,072 (Apr. 2, 1999).

On February 23, 2000, GISB filed with the Commission a letter stating it had adopted a revised version of its business practice and communication standards, Version 1.4. The Version 1.4 standards include the standards for implementing pipeline interactive Internet web sites, which pipelines were required to implement by June 1, 2000, as well as standards for critical notices, and standards for multi-tiered allocations.

GISB also reports on certain issues on which the Commission had requested reports in Order No. 587-G. GISB reports that it has approved standards for multi-tiered allocations, which are included in Version 1.4 of the standards. It reports that its Executive Committee has approved standards for imbalance trading and netting and title transfer tracking, but that these standards are awaiting the development of the technical standards for information requirements and technical mapping. GISB further reports that the Executive Committee has been unable to reach consensus on standards for cross-contract ranking and that its confirmations and cross contract ranking subcommittee is considered inactive. In a letter dated June 15, 2000, GISB filed a follow-up report on cross contract ranking. GISB reports that its Executive Committee was unable to achieve consensus with respect to cross contract ranking due to disagreement on certain policy issues and that in the opinion of the Executive Committee no further progress can be made.

II. Discussion

A. Adoption of Version 1.4 of the Standards

The Commission is proposing to incorporate by reference into its regulations Version 1.4 of GISB's consensus standards with an implementation date on the first day of the month occurring 90 days after publication of the final rule in the Federal Register.² Pipelines already were required to implement the interactive Internet standards contained in Version 1.4 by June 1, 2000. The other changes included in Version 1.4 update and improve the standards, with the principal changes occurring in the areas of communication of critical notices and multi-tiered allocations. Commission adoption of these standards would keep the Commission regulations current.

² Pursuant to the regulations regarding incorporation by reference, copies of Version 1.4 of the standards are available from GISB. 5 U.S.C. 552 (a)(1); 1 CFR 51.

GISB approved the standards under its consensus procedures.³ As the Commission found in Order No. 587, adoption of consensus standards is appropriate because the consensus process helps ensure the reasonableness of the standards by requiring that the standards draw support from a broad spectrum of all segments of the industry. Moreover, since the industry itself has to conduct business under these standards, the Commission's regulations should reflect those standards that have the widest possible support. In § 12(d) of the National Technology Transfer and Advancement Act (NTT&AA) of 1995, Congress affirmatively requires federal agencies to use technical standards developed by voluntary consensus standards organizations, like GISB, as means to carry out policy objectives or activities.⁴

³ This process first requires a super-majority vote of 17 out of 25 members of GISB's Executive Committee with support from at least two members from each of the five industry segments—interstate pipelines, local distribution companies, gas producers, end-users, and services (including marketers and computer service providers). For final approval, 67% of GISB's general membership must ratify the standards.

⁴ Pub L. No. 104-113, § 12(d), 110 Stat. 775 (1996), 15 U.S.C. 272 note (1997).

B. Issues Remaining From Order No. 587-G

In Order No. 587-G, the Commission deferred the adoption of regulations in certain areas in which GISB had not yet reached consensus, including title transfer tracking, multi-tiered allocations, and cross-contract ranking, because the industry asked that GISB be given more time to consider the development of standards on these subjects. In these areas, the Commission provided policy guidance to help facilitate GISB's further consideration and requested a report by GISB on its progress in developing the necessary standards. The Commission further deferred implementation of its regulation requiring pipelines to permit imbalance trading until GISB developed the standards needed to implement the regulation.⁵

⁵ 18 CFR 284.12(c)(2)(ii).

While GISB has adopted standards for multi-tiered allocations and is in the process of finalizing standards relating to title transfer tracking, and imbalance trading, GISB has been unable to reach consensus regarding standards for cross-contract ranking. GISB's ability to reach consensus regarding contentious issues such as multi-tiered allocations and title transfer tracking demonstrates that industry self-regulation can successfully bridge gaps between industry members in order to implement policies that improve the efficiency and competitiveness of the gas industry. On the other hand, GISB's inability to reach a consensus on cross-contract ranking demonstrates the continued need for Commission oversight of the standards process to help resolve policy issues that impede the development of standards. The Commission will address below its proposal to require pipelines to permit shippers to designate and rank the contracts under which gas will flow on each pipeline's system and will also address the other areas left unresolved in Order No. 587-G.

1. Cross-Contract Ranking

Cross-contract ranking would enable shippers to allocate gas supplies across transportation contracts so that the shipper can choose the contract which provides for the most economical transportation. Shippers today are doing business using a variety of contracts, including their own firm and interruptible contracts, and capacity release contracts with different terms and conditions. The ability to allocate gas supplies among these contracts will enhance shipper flexibility and better enable them to manage their gas supply and capacity portfolios.

From the record submitted by GISB, it is not entirely clear what prevented consensus on this issue. A GISB subcommittee developed a set of rules for permitting cross-contract ranking (CXKR-1). (The proposed standards considered by GISB are reproduced in Appendix A). But when these standards were submitted to the Executive Committee, they did not receive consensus approval.⁶ A revised standard (CXKR-2) received votes of 18 in favor and 5 opposed, but under GISB's rules the vote was insufficient because it failed to garner at least two votes from the pipeline segment.⁷ The pipelines also submitted a proposal allowing for cross-contract ranking (CXKR-3), but the other industry segments did not vote for this set of standards. The minutes of the Executive Committee meeting do not contain a detailed explanation of the reasons for the opposition, although it appears some members were concerned the pipeline's proposal did not provide sufficient information to LDCs, while the pipelines took the position that the other proposals required them to bear too great an information burden.

⁶ Minutes of November 11, 1999, GISB Executive Committee Meeting, 5-8, 12 (Appendix to February 16, 2000 Transmittal Letter).

⁷ All five pipeline members opposed the standard. Minutes of November 11, 1999, GISB Executive Committee Meeting, 12 (Appendix to February 16, 2000 Transmittal Letter) (Voting on CXKR-2). To pass the Executive Committee, GISB's rules specify that a standard must be approved by 17 out of 25 votes on the committee, with at least two from each industry segment.

Each of the proposed standards uses the same basic approach to achieving cross-contract ranking, by requiring entity to entity confirmation. The differences between the approaches are in the supplemental information pipelines would be required to provide and in the method of confirmation used for production. The two standards that appear at issue are standard 2 and standard 3 of proposal CXKR-2.

Standard 2 states:

As part of the confirmation and scheduling process upon request, the TSP should make available, via EBB/EDM, supplemental information obtained during or derived from the nomination process. Such supplemental information, if available, should include the TSP's Service Requester Contract and, based upon the TSP's business practice may also, on a mutually agreeable basis, include (1) a derivable indicator characterizing the type of contract and service being provided, (2) Downstream Contract Identifier and/or (3) Service Requester's Package ID.

Standard 3 states:

Absent mutual agreement to the contrary between the TSP and the Operator for confirmations at a production location, the TSP should support the fact that the operator will confirm with the TSP to only the upstream entity level. These upstream entities should either confirm or nominate (at the TSP's determination) at an entity level with the TSP.

Prior to the filing of the GISB report, Koch Gateway Pipeline Company (Koch) filed a letter on December 17, 1999, explaining its view that the impasse results from the supplemental information requirements in standard 2 of proposal CXKR-2 and the requirement in standard 3 of proposal CXKR-2 that pipelines confirm with working interest owners behind the wellhead. Koch contends that requiring pipelines to provide the supplemental information in standard 2 would improperly subject pipelines to regulation by states, rather than the Commission, and could subject the pipelines to potentially burdensome and inconsistent information requirements from different states. Koch contends that the standard regarding working interest owners may not be the best confirmation procedure for all pipelines. It maintains only a few pipelines now provide confirmation to working interest owners and that, given the number of working interest owners on its system, universal adoption of this standard could be counterproductive by making the confirmation more, rather than less, cumbersome. Koch, however, fully supports contract ranking standards and objects only to the embellishments regarding information requirements and confirmation with working interest owners.

The Commission is proposing to add § 284.12(c)(1)(iii) to its regulations requiring pipelines to permit shippers to designate and rank the transportation contracts under which gas will flow on each pipeline's system. From the record submitted by GISB, it appears a general consensus supports cross-contract ranking as a means by which shippers can better manage their contracts and gas supplies. The impasse is not over the method (entity to entity confirmation) used to achieve cross-contract ranking, but to the supplemental information requirements and confirmation with working interest owners. The Commission, therefore, is proposing to move forward with a regulation requiring pipelines to permit shippers to rank gas supplies across their contracts and to resolve disputes concerning the informational requirements and confirmation with working interest owners after receiving comments. The basic requirements for cross-contract ranking would appear to be encompassed by the standards contained in the pipeline proposal, CXKR-3.

The Commission solicits comments on whether there is a need for a uniform generic standard setting forth additional, limited information pipelines should provide to local distribution companies or shippers. The GISB record does not make clear why LDCs or others need additional information from the pipeline during the confirmation process, and the comments should focus on what specific information is needed and why it is necessary for the pipelines to provide it. Comments also should address whether the need for additional information applies to all pipelines or is limited only to certain pipelines that currently provide such additional information to LDCs.

The reason for the disagreement with respect to working interest owners also is not clear, and the Commission seeks comment that explains the nature of the issue and the differences in viewpoint. Comments should address the need for confirmations at the working interest level, the costs and benefits of adopting such a requirement for pipelines, shippers, and the overall efficiency of the pipeline grid, and whether a uniform requirement is necessary or whether pipelines should be permitted to choose the method of confirmation with producers that best fits their systems.

2. Title Transfer Tracking

GISB's Executive Committee has reached agreement on business standards for title transfer tracking and implementation of these standards await only the development of final technical standards. The Executive Committee, on February 11, 2000, established an Expedited Data Development Subcommittee with the charge to promptly finalize the technical standards needed to implement title transfer tracking.⁸ The Executive Committee also reached agreement that pipelines would implement these standards within eight months following the adoption of the technical standards in the applicable GISB standards manual.⁹ Given GISB's actions with respect to title transfer tracking, the Commission sees no further need to propose additional regulations and will expect pipelines to implement these standards based on the time frame established by GISB.

⁸ See http:// www.gisb.org/ edd.htm (June 8, 2000) (announcing formation of Expedited Data Development Subcommittee).

⁹ GISB February 16, 2000 Transmittal Letter, at 4.

3. Implementation of Regulation Requiring Pipelines To Permit Imbalance Trading and Netting

In Order No. 587-G, the Commission adopted a regulation ¹⁰ requiring pipelines to permit shippers to offset imbalances on different contracts held by the shipper and to trade imbalances, but deferred pipeline implementation of the regulation to enable GISB to develop the necessary business practice and technical standards relating to imbalance trading. GISB reports that its Executive Committee has approved the necessary business practice standards, and the first task for the Expedited Data Development Subcommittee is to develop the information requirements and technical mapping standards for imbalance trading. In a contemporaneous order, the Commission is requiring pipelines to implement imbalance trading and netting by November 1, 2000.

¹⁰ 18 CFR 284.12(c)(2)(ii); Order No. 587-G, 63 FR at 20081, III FERC Stats. & Regs. Regulations Preambles ¶ 31,062, at 30,677-80.

III. Notice of Proposed Use of Standards

Office of Management and Budget Circular A-119 (§ 11) (February 10, 1998) provides that federal agencies should publish a request for comment in a Notice of Proposed Rulemaking (NOPR) when the agency is seeking to issue or revise a regulation that contains a standard identifying whether a voluntary consensus standard or a government-unique standard is being proposed. In this NOPR, the Commission is proposing to use Version 1.4 (August 31, 1999) of the voluntary consensus standards developed by GISB.

IV. Information Collection Statement

The following collections of information contained in this proposed rule have been submitted to the Office of Management and Budget (OMB) for review under Section 3507(d) of the Paperwork Reduction Act of 1995, 44 U.S.C. 3507(d). The Commission solicits comments on the Commission's need for this information, whether the information will have practical utility, the accuracy of the provided burden estimates, ways to enhance the quality, utility, and clarity of the information to be collected, and any suggested methods for minimizing respondents' burden, including the use of automated information techniques. The following burden estimates include the costs for implementing GISB's Version 1.4 standards which update and improve the existing Version 1.3 standards and for complying with the Commission's proposed regulation requiring pipelines to permit cross-contract ranking. The burden estimates are primarily related to start-up for implementing the latest version of the standards and the cross-contract ranking regulation and will not be on-going costs.

Data collection | Number of respondents | Number of responses per respondent | Hours per response | Total number of hours
FERC-545 | 93 | 1 | 38 | 3,534
FERC-549C | 93 | 1 | 1,810 | 168,330

Total Annual Hours for Collection (Reporting and Recordkeeping, (if appropriate) = 171,864.

Information Collection Costs: The Commission seeks comments on the costs to comply with these requirements. It has projected the average annualized cost per respondent to be the following:

| FERC- 545 | FERC- 549C
Annualized Capital/Startup Costs | $2,038 | $97,066
Annualized Costs (Operations & Maintenance) | 0 | 0
Total Annualized Costs | 2,038 | 97,066

OMB regulations ¹¹ require OMB to approve certain information collection requirements imposed by agency rule. The Commission is submitting notification of this proposed rule to OMB.

¹¹ 5 CFR 1320.11.

Title: FERC-545, Gas Pipeline Rates: Rate Change (Non-Formal); FERC-549C, Standards for Business Practices of Interstate Natural Gas Pipelines.

Action: Proposed collections.

OMB Control No.: 1902-0154, 1902-0174.

Respondents: Business or other for profit, (Interstate natural gas pipelines (Not applicable to small business.)).

Frequency of Responses: One-time implementation (business procedures, capital/start-up).

Necessity of Information: This proposed rule, if implemented, would upgrade the Commission's current business practice and communication standards to the latest edition approved by GISB (Version 1.4) and require pipelines to permit cross-contract ranking. The implementation of these standards and the requirement to permit cross-contract ranking are necessary to increase the efficiency of the pipeline grid.

The information collection requirements of this proposed rule will be reported directly to the industry users. The implementation of these data requirements will help the Commission carry out its responsibilities under the Natural Gas Act to monitor activities of the natural gas industry to ensure its competitiveness and to assure the improved efficiency of the industry's operations. The Commission's Office of Markets, Tariffs and Rates will use the data in rate proceedings to review rate and tariff changes by natural gas companies for the transportation of gas, for general industry oversight, and to supplement the documentation used during the Commission's audit process.

Internal Review: The Commission has reviewed the requirements pertaining to business practices and electronic communication with natural gas interstate pipelines and made a determination that the proposed revisions are necessary to establish a more efficient and integrated pipeline grid. Requiring such information ensures both a common means of communication and common business practices which provide participants engaged in transactions with interstate pipelines with timely information and uniform business procedures across multiple pipelines. These requirements conform to the Commission's plan for efficient information collection, communication, and management within the natural gas industry. The Commission has assured itself, by means of its internal review, that there is specific, objective support for the burden estimates associated with the information requirements.

Interested persons may obtain information on the reporting requirements by contacting the following: Federal Energy Regulatory Commission, 888 First Street, NE., Washington, DC 20426, [Attention: Michael Miller, Office of the Chief Information Officer, Phone: (202) 208-1415, fax: (202)273-0873 email: michael.miller@ferc.fed.us].

Comments concerning the collection of information(s) and the associated burden estimate(s), should be sent to the contact listed above and to the Office of Management and Budget, Office of Information and Regulatory Affairs, Washington, D.C. 20503 [Attention: Desk Officer for the Federal Energy Regulatory Commission, phone: (202) 395-3087, fax: (202) 395-7285].

V. Environmental Analysis

The Commission is required to prepare an Environmental Assessment or an Environmental Impact Statement for any action that may have a significant adverse effect on the human environment.¹² The Commission has categorically excluded certain actions from these requirements as not having a significant effect on the human environment.¹³ The actions proposed to be taken here fall within categorical exclusions in the Commission's regulations for rules that are clarifying, corrective, or procedural, for information gathering, analysis, and dissemination, and for sales, exchange, and transportation of natural gas that requires no construction of facilities.¹⁴ Therefore, an environmental assessment is unnecessary and has not been prepared in this rulemaking.

¹² Order No. 486, Regulations Implementing the National Environmental Policy Act, 52 FR 47897 (Dec. 17, 1987), FERC Stats. & Regs. Preambles 1986-1990 ¶ 30,783 (1987).

¹³ 18 CFR 380.4.

¹⁴ See 18 CFR 380.4(a)(2)(ii), 380.4(a)(5), 380.4(a)(27).

VI. Regulatory Flexibility Act Certification

The Regulatory Flexibility Act of 1980 (RFA) ¹⁵ generally requires a description and analysis of final rules that will have significant economic impact on a substantial number of small entities. The proposed regulations would impose requirements only on interstate pipelines, which are not small businesses, and, these requirements are, in fact, designed to reduce the difficulty of dealing with pipelines by all customers, including small businesses. Accordingly, pursuant to § 605(b) of the RFA, the Commission hereby certifies that the regulations proposed herein will not have a significant adverse impact on a substantial number of small entities.

¹⁵ 5 U.S.C. 601-612.

VII. Comment Procedures

The Commission invites interested persons to submit written comments on the matters and issues proposed in this notice to be adopted, including any related matters or alternative proposals that commenters may wish to discuss.

The original and 14 copies of such comments must be received by the Commission before 5:00 p.m., August 7, 2000. Comments should be submitted to the Office of the Secretary, Federal Energy Regulatory Commission, 888 First Street, NE, Washington DC 20426 and should refer to Docket No. RM96-1-015.

In addition to filing paper copies, the Commission encourages the filing of comments either on computer diskette or via Internet E-Mail. Comments may be filed in the following formats: WordPerfect 8.0 or below, MS Word Office 97 or lower version, or ASCII format.

For diskette filing, include the following information on the diskette label: Docket No. RM96-1-015; the name of the filing entity; the software and version used to create the file; and the name and telephone number of a contact person.

For Internet E-Mail submittal, comments should be submitted to “comment.rm@ferc.fed.us” in the following format. On the subject line, specify Docket No. RM96-1-015. In the body of the E-Mail message, include the name of the filing entity; the software and version used to create the file, and the name and telephone number of the contact person. Attach the comment to the E-Mail in one of the formats specified above. The Commission will send an automatic acknowledgment to the sender's E-Mail address upon receipt. Questions on electronic filing should be directed to Brooks Carter at 202-501-8145, E-Mail address brooks.carter@ferc.fed.us.

Commenters should take note that, until the Commission amends its rules and regulations, the paper copy of the filing remains the official copy of the document submitted. Therefore, any discrepancies between the paper filing and the electronic filing or the diskette will be resolved by reference to the paper filing.

All written comments will be placed in the Commission's public files and will be available for inspection in the Commission's Public Reference room at 888 First Street, NE, Washington DC 20426, during regular business hours. Additionally, comments may be viewed, printed, or downloaded remotely via the Internet through FERC's Homepage using the RIMS or CIPS links. RIMS contains all comments but only those comments submitted in electronic format are available on CIPS. User assistance is available at 202-208-2222, or by E-Mail to rimsmaster@ferc.fed.us.

VIII. Document Availability

In addition to publishing the full text of this document in the Federal Register, the Commission provides all interested persons an opportunity to view and/or print the contents of this document via the Internet through FERC's Home Page (http://www.ferc.fed.us) and in FERC's Public Reference Room during normal business hours (8:30 a.m. to 5:00 p.m. Eastern time) at 888 First Street, NE, Room 2A, Washington, DC 20426.

From FERC's Home Page on the Internet, this information is available in both the Commission Issuance Posting System (CIPS) and the Records and Information Management System (RIMS).

—CIPS provides access to the texts of formal documents issued by the Commission since November 14, 1994.

—CIPS can be accessed using the CIPS link or the Energy Information Online icon. The full text of this document is available on CIPS in ASCII and WordPerfect 8.0 format for viewing, printing, and/or downloading.

—RIMS contains images of documents submitted to and issued by the Commission after November 16, 1981. Documents from November 1995 to the present can be viewed and printed from FERC's Home Page using the RIMS link or the Energy Information Online icon. Descriptions of documents back to November 16, 1981, are also available from RIMS-on-the-Web; requests for copies of these and other older documents should be submitted to the Public Reference Room.

User assistance is available for RIMS, CIPS, and the Website during normal business hours from our Help line at (202) 208-2222 (E-Mail to WebMaster@ferc.fed.us) or the Public Reference at (202) 208-1371 (E-Mail to public.referenceroom@ferc.fed.us).

During normal business hours, documents can also be viewed and/or printed in FERC's Public Reference Room, where RIMS, CIPS, and the FERC Website are available. User assistance is also available.

List of Subjects in 18 CFR Part 284

Continental shelf, Incorporation by reference, Natural gas, Reporting and recordkeeping requirements.

By direction of the Commission.
David P. Boergers,
Secretary.

In consideration of the foregoing, the Commission proposes to amend Part 284, Chapter I, Title 18, Code of Federal Regulations, as set forth below.

PART 284—CERTAIN SALES AND TRANSPORTATION OF NATURAL GAS UNDER THE NATURAL GAS POLICY ACT OF 1978 AND RELATED AUTHORITIES

1. The authority citation for Part 284 continues to read as follows:

Authority: 15 U.S.C. 717-717w, 3301-3432; 42 U.S.C 7101-7532; 43 U.S.C 1331-1356.

2. In § 284.12, paragraphs (b)(1)(i) through (v) are revised and paragraph (c)(1)(iii) is added to read as follows:

§ 284.12 Standards for Pipeline Business Operations and Communications.

* * * * *

(b) * * *

(1) * * *

(i) Nominations Related Standards (Version 1.4, August 31, 1999);

(ii) Flowing Gas Related Standards (Version 1.4, August 31, 1999) with the exception of Standards 2.3.29 and 2.3.30;

(iii) Invoicing Related Standards (Version 1.4, August 31, 1999);

(iv) Electronic Delivery Mechanism Standards (Version 1.4, November 15, 1999) with the exception of Standard 4.3.4; and

(v) Capacity Release Related Standards (Version 1.4, August 31, 1999).

* * * * *

(c) * * *

(1) * * *

(iii) A pipeline must permit shippers to designate and rank the transportation contracts under which gas will flow on the pipeline's system.

* * * * *

Note: The following Appendix will not appear in the Code of Federal Regulations.

Appendix

Cross-Contract Ranking Standards GISB Considered, But Did Not Adopt

Standards considered at the November 11, 1999 GISB Executive Committee Meeting.

CXKR-1

S1 Proposed Standard 1

Absent mutual agreement to the contrary, the standard level of confirmation should be entity to entity.

S2 Revised Proposed Standard 2

As part of the confirmation and scheduling process between a Transportation Service Provider (TSP) and a Local Distribution Company (LDC), upon request by the LDC, the TSP should make available, via EBB/EDM, supplemental information obtained during or derived from the nomination process necessary for the LDC to meet its statutory and/or regulatory obligations. Such supplemental information, if available, should include the TSP's Service Requester Contract and, based upon the TSP's business practice may also, on a mutually agreeable basis, include (1) a derivable indicator characterizing the type of contract and service being provided, (2) Downstream Contract Identifier and/or (3) Service Requester's Package ID.

S3 Proposed Standard 3

Absent mutual agreement to the contrary between the TSP and the Operator for confirmations at a production location, the TSP should support the fact that the operator will confirm with the TSP to only the upstream entity level. These upstream entities should either confirm or nominate (at the TSP's determination) at an entity level with the TSP.

D1 Proposed Definition 1

Production locations includes wellheads, platforms, plant tailgates (excluding straddle plants) and physical wellhead aggregation points.

S4 Proposed Standard 4

When nominated quantities exceed available capacity, the Transportation Service Provider (TSP) should first utilize its tariff requirements to assign capacity to each service level for each Service Requester (SR). The TSP should then use the SR's provided scheduling ranks to determine how the available quantities should be distributed within a single service level. The SR's provided scheduling ranks (as applicable) should be used as follows:

For reductions identified at or upstream of the constraint location, the order for application of ranks is Receipt Rank (Priority), Upstream Rank (Priority), Delivery Rank (Priority), Downstream Rank (Priority).

For reductions identified at or downstream of the constraint location, the order for application of ranks is Delivery Rank (Priority), Downstream Rank (Priority), Receipt Rank (Priority), Upstream Rank (Priority).

S5 Proposed Standard 5

When applying a confirmation reduction to an entity at a location, the Transportation Service Provider (TSP) should use the Service Requester's (SR's) scheduling ranks provided on all nominations for that location and entity to determine the appropriate nomination(s) to be reduced, except where superseded by the TSP's tariff, general terms and conditions, or contractual obligations. The SR's provided scheduling ranks (as applicable) should be used as follows:

For receipt side reductions, the order for application of ranks is Upstream Rank (Priority), Receipt Rank (Priority), Delivery Rank (Priority), and Downstream Rank (Priority).

For delivery side reductions, the order for application of ranks is Downstream Rank (Priority), Delivery Rank (Priority), Receipt Rank (Priority), and Upstream Rank (Priority).

P1 Proposed Principle 1

In order to effectuate cross contract ranking, the level of confirmation at a location should occur at the entity to entity level.

S6 Revised Proposed Standard 6

Transportation Service Providers should utilize Standard 1.3.7 for ranks submitted in a nomination.

CXKR-2

Retain all standards in CXKR-1 with the exception of Standard S2 which would be revised to read as follows:

S2 Amended Revised Proposed Standard 2

As part of the confirmation and scheduling process upon request, the TSP should make available, via EBB/EDM, supplemental information obtained during or derived from the nomination process. Such supplemental information, if available, should include the TSP's Service Requester Contract and, based upon the TSP's business practice may also, on a mutually agreeable basis, include (1) a derivable indicator characterizing the type of contract and service being provided, (2) Downstream Contract Identifier and/or (3) Service Requester's Package ID.

CXKR-3

P1 New Principle

In order to effectuate cross contract ranking, the level of confirmation at a location should occur at the entity-to-entity level.

S1 New Standard

The standard level of confirmation should be entity to entity.

S4 New Standard

When nominated quantities exceed available capacity on a Transportation Service Provider's (TSP's) system, such TSP should first utilize its tariff requirements to assign capacity to each service level for each Service Requester (SR). The TSP should then use the SR's provided scheduling ranks as provided in the SR's nomination to determine how the available quantities should be distributed within a single service level.

The SR's provided scheduling ranks (as applicable) should be used as follows:

For reductions identified at or upstream of the constraint location, the order for application of ranks is Receipt Rank (Priority), Upstream Rank (Priority), Delivery Rank (Priority), Downstream Rank (Priority).

For reductions identified at or downstream of the constraint location, the order for application of ranks is Delivery Rank (Priority), Downstream Rank (Priority), Receipt Rank (Priority), Upstream Rank (Priority).

S5 New Standard

When applying a confirmation reduction to an entity (Service Requester (SR)) at a location, the Transportation Service Provider (TSP) should use such SR's scheduling ranks as provided on that SR's nominations at that location to determine the appropriate nominations(s) to be reduced, except where superceded by the TSP's tariff, general terms and conditions, or contractual obligations.

The SR's provided scheduling ranks (as applicable) should be used as follows:

For receipt side reductions, the order for application of ranks is Upstream Rank (Priority), Receipt Rank (Priority), Delivery Rank (Priority), Downstream Rank (Priority).

For delivery side reductions, the order for application of ranks is Downstream Rank (Priority), Delivery Rank (Priority), Receipt Rank (Priority), Upstream Rank (Priority).

[FR Doc. 00-17163 Filed 7-6-00; 8:45 am]

BILLING CODE 6717-01-P